GENERAL SERVICES ADMINISTRATION

Maximum Per Diem Rates for Texas and California

AGENCY: Office of Governmentwide Policy, General Services Administration (GSA).

ACTION: Notice of Per Diem Bulletin 03-4, revised continental United States (CONUS) per diem rates.

SUMMARY: To improve the ability of the per diem rates to meet the lodging demands of Federal travelers to high cost travel locations, the General Services Administration (GSA) has integrated the contracting mechanism of the new Federal Premier Lodging Program (FPLP) into the per diem rate-setting process. An analysis of FPLP contracting actions and the lodging rate survey data reveals that the maximum per diem rate should be adjusted to provide for the reimbursement of Federal employees' lodging expenses covered by the per diem. The per diems prescribed in Bulletin 03-4 may be found at http://www.gsa.gov/perdiem, to be effective for travel 15 days after publication of this notice.

DATES: This notice is effective September 2, 2003 and applies to travel performed 15 days after this date.

FOR FURTHER INFORMATION CONTACT: For clarification of content, contact Patrick McConnell, Office of Governmentwide Policy, Travel Management Policy, at (202) 501-2362. Please cite Notice of Per Diem Bulletin 03-4.

SUPPLEMENTARY INFORMATION:

A. Background

In the past, properties in high cost travel areas have been under no obligation to provide lodging to Federal travelers at the prescribed per diem rate. Thus, GSA established the FPLP to contract directly with properties in high cost travel markets to make available a set number of rooms to Federal travelers at contract rates. FPLP contract results along with the lodging survey data are integrated together to determine reasonable per diem rates that more accurately reflect lodging costs in these areas. In addition, the FPLP enhances the Government's ability to better meet its overall room night demand, and allows travelers to find lodging close to where they need to conduct business. After an analysis of this additional data, the maximum lodging amount published in the Federal Register at 67 FR 56160, August 30, 2002, and amended at 67 FR 69634, November 18, 2002, 68 FR 25034, May 9, 2003, and 68 FR 31706, May 28, 2003, is being changed in the following locations:

State of Texas

• Arlington/Grapevine, including Tarrant County.

• Dallas, including Dallas County.

• City limits of Forth Worth.

State of California

• Los Angeles, including Los Angeles, Orange and Ventura Counties, Edwards AFB; Naval Weapons Center and Ordnance Test Station, China Lake.

• Oakland, including Alameda County.

• Sacramento, including Sacramento County.

• San Francisco, including San Francisco County.

• San Mateo/Redwood City, including San Mateo County.

• City limits of Santa Monica.

• Sunnyvale/Palo Alto/San Jose, including Santa Clara County.

B. Change in Standard Procedure

Since per diem rates frequently change, effective April 28, 2003 (68 FR 22314), the Office of Governmentwide Policy (OGP), GSA, will issue/publish the CONUS per diem rates, formerly published in Appendix A to 41 CFR chapter 301, solely on the Internet at http://www.gsa.gov/perdiem. This new process will ensure more timely increases or decreases in per diem rates established by GSA for Federal employees on official travel within CONUS. This notice advises agencies of revisions in per diem rates prescribed by OGP for CONUS. Notices published periodically in the Federal Register, such as this one, now constitute the only notification of revisions in CONUS per diem rates to agencies.

Dated: August 22, 2003.
David Drabkin,
Acting Associate Administrator.

[FR Doc. 03-22240 Filed 8-29-03; 8:45 am]

BILLING CODE 6820-14-P